DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Census 2000 Evaluation: Response Process for Selected Language Groups.

Form Number(s): None.

Agency Approval Number: None.

Type of Request: New collection.

Burden: 1,667 hours.

Number of Respondents: 5,000.

Avg Hours Per Response: 20 minutes.

Needs and Uses: The Census Bureau would like to better understand how non-English speaking respondents cope with the census. The Census 2000 Evaluation of Response Process for Selected Language Groups will consist of a follow-up survey of census long form responding households that indicate Spanish, Vietnamese, or Russian is spoken at home. Questions asked in this follow-up survey will evaluate the respondents' awareness of the census in general, its purposes, the language assistance programs, and the respondents' use of such programs. Some of these programs include, but are not limited to, questionnaires and Be Counted forms in Spanish, Korean, Chinese, Tagalog, and Vietnamese; Questionnaire Assistance Centers (QACs), which provide Language Assistance Guides (LAGs) in 49 additional languages and some bilingual clerks; bilingual enumerators during follow-up operations; and Telephone Questionnaire Assistance (TQA) in Spanish, Korean, Chinese, Tagalog, and Vietnamese. Results from this study will help evaluate the effectiveness of the language assistance programs, and will help in the planning of the 2010 Census.

The follow-up survey will be conducted by telephone with specially trained bilingual interviewers. Approximately 4,500 cases will be drawn equally from each of the three language groups under study. Approximately 500 households that indicate only English is spoken at home will also be interviewed for comparison purposes. Half of the sample will be interviewed in early to mid-June, 2000, from the universe of households responding to the census through the mail, and half will be interviewed in early to mid-August, 2000, from the universe of households responding to the census through an enumerator.

Affected Public: Individuals or households.

Frequency: One time.

Respondent's Obligation: Voluntary.

Legal Authority: Title 13 USC, Sections 141 and 193.

OMB Desk Officer: Susan Schechter, (202) 395-5103.

Copies of the above information collection proposal can be obtained by calling or writing Linda Engelmeier, DOC Forms Clearance Officer, (202) 482-3272, Department of Commerce, room 5027, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: March 27, 2000.
Linda Engelmeier,
Departmental Forms Clearance Officer, Office of the Chief Information Officer.

[FR Doc. 00-8003 Filed 3-30-00; 8:45 am]

BILLING CODE 3510-07-P